NUCLEAR REGULATORY COMMISSION

[Docket Nos. 50-275 and 50-323; NRC-2016-0237]

Diablo Canyon Power Plant, Units 1 and 2

AGENCY: Nuclear Regulatory Commission.

ACTION: Request for action; receipt.

SUMMARY: The U.S. Nuclear Regulatory Commission (NRC) is giving notice that, by petition dated July 14, 2016, and submitted by Mr. Lochbaum (the petitioner) on behalf of the Union of Concerned Scientists, the petitioner has requested that the NRC take action with regard to Diablo Canyon Power Plant, Units 1 and 2 (DCPP). The petitioner's requests are included in the SUPPLEMENTARY INFORMATION section of this document.

ADDRESSES: Please refer to Docket ID NRC-2016-0237 when contacting the NRC about the availability of information regarding this document. You may obtain publicly-available information related to this document using any of the following methods:

• Federal Rulemaking Web site: Go to http://www.regulations.gov and search for Docket ID NRC-2016-0237. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Margaret M. Watford, Office of Nuclear Reactor Regulation, U.S. Nuclear Regulatory Commission, Washington DC 20555-0001; telephone: 301-415-1233, email: Margaret.Watford@nrc.gov.

SUPPLEMENTARY INFORMATION: On July 14, 2016, the petitioner requested that the NRC take action with regard to DCPP (ADAMS Accession No. ML16196A294). The petitioner requested the NRC to issue a Demand for Information pursuant to section 2.204 of title 10 of the Code of Federal Regulations (10 CFR), to Pacific Gas and Electric Company (PG&E, the licensee for DCPP) requiring the company to provide the NRC with a written explanation as to why its license amendment request dated June 17, 2015 (ADAMS Package Accession No. ML15176A539), failed to provide complete and accurate information needed by the NRC staff to complete its review and the measures it will implement so as to comply with 10 CFR 50.9, “Completeness and accuracy of information,” in future submittals to the NRC.

As a basis for this request, the petitioner states that the NRC's numerous requests for additional information during the license amendment process constitute prima facie evidence that PG&E violated 10 CFR 50.9 due to the incomplete and inaccurate information in the original license amendment request.

The request is being treated pursuant to 10 CFR 2.206 of the Commission's regulations and has been referred to the Director of the Office of Nuclear Reactor Regulation. The petitioner submitted supplemental information (ADAMS Accession No. ML16215A109) and addressed the Petition Review Board via teleconference on August 2, 2016, to discuss the petition; the transcript of that meeting is an additional supplement to the petition (ADAMS Accession No. ML16232A570). The results of that discussion were considered in the Board's determination regarding the petitioner's request for enforcement action and in establishing the schedule for the review of the petition. The Director determined that the petitioner's request for enforcement action at DCPP met the criteria for review under the 10 CFR 2.206 process. The NRC will take appropriate action on this petition within a reasonable time.

Dated at Rockville, Maryland, this 9th day of November, 2016.
For the Nuclear Regulatory Commission.
William M. Dean,
Director, Office of Nuclear Reactor Regulation.

[FR Doc. 2016-27656 Filed 11-16-16; 8:45 am]

BILLING CODE 7590-01-P